DEPARTMENT OF THE INTERIOR

Bureau of Ocean Energy Management

[OMB Control Number 1010-0151; Docket ID: BOEM-2023-0004]

Agency Information Collection Activities; Plans and Information

AGENCY: Bureau of Ocean Energy Management, Interior.

ACTION: Notice of information collection; request for comment.

SUMMARY: In accordance with the Paperwork Reduction Act of 1995, the Bureau of Ocean Energy Management (BOEM) proposes this information collection request (ICR) to renew with revisions the Office of Management and Budget (OMB) Control Number 1010-0151.

DATES: Comments must be received by BOEM no later than May 2, 2023.

ADDRESSES: Send your comments on this ICR by mail to the BOEM Information Collection Clearance Officer, Anna Atkinson, Bureau of Ocean Energy Management, 45600 Woodland Road, Sterling, Virginia 20166; or by email to anna.atkinson@boem.gov. Please reference OMB Control Number 1010-0151 in the subject line of your comments. You may also view the ICR and its related documents by searching the docket number BOEM-2023-0004 at http://www.regulations.gov.

FOR FURTHER INFORMATION CONTACT: Anna Atkinson by email at anna.atkinson@boem.gov, or by telephone at 703-787-1025. Individuals in the United States who are deaf, deafblind, hard of hearing, or have a speech disability may dial 711 (TTY, TDD, or TeleBraille) to access telecommunications relay services. Individuals outside of the United States should use the relay services offered within their country to make international calls to the point-of-contact in the United States.

SUPPLEMENTARY INFORMATION: In accordance with the Paperwork Reduction Act of 1995, BOEM provides the general public and other Federal agencies with an opportunity to comment on new, proposed, revised, and continuing collections of information. This helps BOEM assess the impact of its information collection requirements and minimize the public's reporting burden. It also helps the public understand BOEM's information collection requirements and provide the requested data in the desired format.

BOEM is soliciting comments on this proposed ICR. BOEM is especially interested in public comments addressing the following issues: (1) is the collection necessary to the proper functions of BOEM; (2) what can BOEM do to ensure that this information is processed and used in a timely manner; (3) is the burden estimate accurate; (4) how might BOEM enhance the quality, utility, and clarity of the information to be collected; and (5) how might BOEM minimize the burden of this collection on the respondents, including minimizing the burden through the use of information technology?

Comments submitted in response to this notice are a matter of public record. BOEM will include or summarize each comment in its ICR to OMB for approval of this information collection, and comments will be posted on www.reginfo.gov. You should be aware that your entire comment—including your address, phone number, email address, or other personally identifiable information included in your comment—may be made publicly available at any time.

Even if BOEM withholds your personally identifiable information in the context of this ICR, your comment is subject to the Freedom of Information Act (FOIA) (5 U.S.C. 552). If your comment is requested under FOIA, your information will only be withheld if a determination is made that one of the FOIA exemptions to disclosure applies. Such a determination will be made in accordance with the Department of the Interior's (DOI) FOIA regulations (43 CFR part 2) and applicable law.

For BOEM to consider withholding from disclosure your personally identifiable information, you must identify, in a cover letter, any information contained in your comment that, if released, would constitute a clearly unwarranted invasion of your privacy. You must also briefly describe any possible harmful consequences of the disclosure of information, such as embarrassment, injury, or other harm.

BOEM will make available for public inspection all comments in their entirety (except propriety information) submitted by organizations and businesses, or by individuals identifying themselves as representatives of organizations or businesses. BOEM protects proprietary information in accordance with FOIA), DOI's implementing regulations, and 30 CFR parts 550 and 552 promulgated pursuant to the Outer Continental Shelf (OCS) Lands Act (43 U.S.C. 1352(c)).

Title of Collection: “30 CFR 550, Subpart B, Plans and Information.”

Abstract: This ICR concerns the paperwork requirements in the regulations under 30 CFR part 550, subpart B, “Plans and Information.”

The OCS Lands Act, as amended (43 U.S.C. 1331 et seq., as amended), authorizes the Secretary of the Interior to prescribe regulations to administer leasing of mineral resources on the OCS. Such regulations apply to all operations conducted under a lease. The OCS Lands Act requires lessees to submit exploration plans (EPs), development and production plans (DPPs), and development operations coordination documents (DOCDs) to the Secretary for approval prior to commencing these activities. See 43 U.S.C. 1340 and 1351. On the Arctic OCS, lessees and operators are required to develop an integrated operations plan (IOP) for each exploratory program and to submit additional planning information with their EPs.

The Secretary delegated that regulatory authority to BOEM. The BOEM regulations at 30 CFR part 550, subpart B, require lessees to submit plans and information before conducting OCS activities under a lease. Those information collections are the subject of this ICR. This ICR also covers the related notices to lessees and operators (NTLs) that BOEM issues to provide additional guidance on its regulations.

BOEM geologists, geophysicists, and environmental scientists and other Federal agencies (e.g., USFWS, NMFS) analyze and evaluate the information collected under subpart B. Their analyses ensure that planned operations are safe, conserve OCS resources, and avoid undue effects on the marine, coastal, or human environment. BOEM uses the information to make an informed decision on whether to approve the proposed EP, DDP, or DOCD as submitted or require modifications. Also, the affected States may review the information collected to ensure consistency with their coastal zone management plans.

BOEM also provides reports (typically annually) to NMFS and USFWS to document compliance with the Endangered Species Act (ESA) and any issued biological opinions. These reports may include information on mitigation effectiveness, adverse impacts of activities, and any incidental takes, in accordance with 50 CFR 402.14(i)(3). For example, NMFS' recent biological opinion “Biological Opinion on the Federally Regulated Oil and Gas Program Activities in the Gulf of Mexico,” (Consultation Number FPR-2017-92341) dated March 13, 2020, and amended in 2021 (GOM BiOp), covers all activities associated with the OCS oil and gas program in the Gulf of Mexico through approximately March 2030. The GOM BiOp addresses the impacts to and incidental take of ESA-listed species as a result of BOEM-authorized activities. Compliance with the GOM BiOp's relevant terms, conditions, mitigation measures, and protocols necessitates updates to the information that lessees and operators must submit in the appendices to their plan. Certain post-lease approvals (e.g., for activities involving new and unusual technologies, equipment involving entanglement risks, and all ancillary geological and geophysical (G&G) surveys) require step-down review with NMFS and may require additional information to fully assess the potential for impacts to protected species. BOEM uses the information submitted by the lessees and operators (e.g., BOEM-0137, OCS Plan Information Form) to determine which mitigations are necessary. The GOM BiOp modified reporting requirements compared to the prior BiOp issued by NMFS; therefore, BOEM is revising the estimated burdens identified in this ICR.

OMB Control Number: 1010-0151.

Form Number:

• BOEM-0137—OCS Plan Information Form

• BOEM-0138—Exploration Plan (EP) Air Quality Screening Checklist

• BOEM-0139—Development Operations Coordination Document (DOCD) Air Quality Screening Checklist

• BOEM-0141—ROV Survey Report

• BOEM-0142—Environmental Impact Analysis Worksheet

Type of Review: Revision of a currently approved information collection.

Respondents/Affected Public: Potential respondents compromise Federal OCS oil, gas, and sulfur lessees and operators.

Total Estimated Number of Annual Responses: 1,291 responses.

Total Estimated Number of Annual Burden Hours: 286,144 hours.

Respondent's Obligation: Mandatory.

Frequency of Collection: On occasion, semi-monthly, and varies by section.

Total Estimated Annual Non-Hour Burden Cost: $3,688,524.

BOEM identified three non-hour costs associated with this information collection. Those costs are fees that BOEM charges lessees to review their planning documents, such as EPs ($4,348 fee for 95 EPs; total $413,600 annually), DPPs or DOCDs ($5,017 fee for 180 DPPs and DOCDs; total $903,060 annually), and conservation information documents (CIDs) ($32,372 fee for 17 CIDs; total $550,324 annually).

Also, lessees incur a non-hour cost associated with the Protected Species Observer Program. This cost totals $1,822,080 and covers observation activities that are usually subcontracted to companies with expertise in these areas.

The current OMB Control Number 1010-0151 accounts for 436,438 annual burden hours, 4,266 responses, and $3,939,435 non-hour cost burdens. Based on several revisions, BOEM estimates the burden for the renewal will be 286,144 annual burden hours with 1,291 responses, and $3,688,524 non-hour cost burdens.

In calculating the information collection burdens, BOEM accounted for decreases in the number of plans submitted annually and for the changes resulting from the GOM BiOp. Per the GOM BiOp, BOEM currently requires monthly marine mammal observation and monitoring reports and a final report within 90 days of the completion of an OCS survey. Because the GOM BiOp replaced BOEM's NTL 2016-G02, which had required two reports each month, BOEM estimates an overall decrease in the burden related to these monitoring reports.

The GOM BiOp requires additional reporting if one or more individuals from a protected species are observed within an enclosed moon pool, which is an opening in the bottom of a marine platform, drill ship or vessel, through which deepwater drilling is done. The operator must report the observation within 24 hours and daily thereafter as long as any individuals from a protected species remain within the moon pool. With this new requirement, BOEM estimates a slight increase in annual reporting.

While the GOM BiOp increased certain reporting burdens for lessees and operators in the Gulf of Mexico, the overall non-hour costs are estimated to decrease slightly due to the anticipated reduction in the number of plans submitted to BOEM.

The following table estimates the information collection burden contained in 30 CFR 550, subpart B.

Burden Table
Citation 30 CFR 550 Subpart B and NTLs | Reporting & recordkeeping requirement | Non-Hour costs: Hour burden | Non-Hour costs: Average number of annual responses | Non-Hour costs: Burden hours
200 thru 206 | General requirements for plans and information; fees/refunds, etc | Burden included with specific requirements below. |  | 0
201 thru 206; 211 thru 228; 241 thru 262 | BOEM posts EPs/DPPs/DOCDs on FDMS, and receives public comments in preparation of EAs | Not considered IC as defined in 5 CFR 1320.3(h)(4). |  | 0
204 | For Arctic OCS Exploration activities: submit IOP, including all required information | 2,880 | 1 response | 2,880
Subtotal |  |  | 1 response | 2,880
Ancillary Activities
208; NTL 2009-G34 * | Notify BOEM in writing, and if required by the Regional Supervisor notify other users of the OCS before conducting ancillary activities | 11 | 40 notices | 440
208; 210(a) | Submit report summarizing & analyzing data/information obtained or derived from ancillary activities | 2 | 40 reports | 80
208; 210(b) | Retain ancillary activities data/information; upon request, submit to BOEM | 2 | 40 records | 80
Subtotal |  |  | 120 responses | 600
Contents of Exploration Plans (EP)
209; 231(b); 232(d); 234; 235; 281; 283; 284; 285; NTL 2015-N01 * | Submit new, amended, modified, revised, or supplemental EP, or resubmit disapproved EP, including required information; withdraw an EP | 150 | 205 changed plans | 30,750
209; 211 thru 228; NTL 2015-N01 * | Submit EP and all required information (including, but not limited to, submissions required by BOEM Forms 0137, 0138, 0142; lease stipulations; reports, including shallow hazards surveys, H2S, G&G, archaeological surveys & reports (550.194) **), in specified formats. Provide notifications | 600 | 95 | 57,000
|  | $4,348 × 95 EP surface locations = $413,060
220 ** | For Arctic OCS exploration activities: submit required Arctic-specific information with EP | 350 | 1 | 350
220 ** | For existing Arctic OCS exploration activities: revise and resubmit Arctic-specific information, as required | 700 | 1 | 700
Subtotal |  |  | 302 responses | 88,800
|  |  | $413,060 non-hour costs.
Review and Decision Process for the EP
235(b); 272(b); 281(d)(3)(ii) | Appeal State's objection | Burden exempt as defined in 5 CFR 1320.4(a)(2), (c). |  | 0
Contents of Development and Production Plans (DPP) and Development Operations Coordination Documents (DOCD)
209; 266(b); 267(d); 272(a); 273; 281; 283; 284; 285; NTL 2015-N01 * | Submit amended, modified, revised, or supplemental DPP or DOCD, including required information, or resubmit disapproved DPP or DOCD | 235 | 275 changed plans | 64,625
241 thru 262; 209; NTL 2015-N01 * | Submit DPP/DOCD and required/supporting information (including, but not limited to, submissions required by BOEM Forms 0137, 0139, 0142; lease stipulations; reports, including shallow hazards surveys, archaeological surveys & reports (CFR 550.194)), in specified formats. Provide notification | 700 | 180 | 126,000
|  | $5,017 × 180 DPP/DOCD wells = $903,060.
Subtotal |  |  | 455 responses | 190,625
|  |  | $903,060 non-hour costs.
Review and Decision Process for the DPP or DOCD
267(a) | Once BOEM deemed DPP/DOCD submitted; Governor of each affected State, local government official; etc., submit comments/recommendations | Not considered IC as defined in 5 CFR 1320.3(h)(4) |  | 0
267(b) | General public comments/recommendations submitted to BOEM regarding DPPs or DOCDs | Not considered IC as defined in 5 CFR 1320.3(h)(4). |  | 0
269(b) | For leases or units in vicinity of proposed development and production activities RD may require those lessees and operators to submit information on preliminary plans for their leases and units | 3 | 1 response | 3
Subtotal |  |  | 1 response | 3
Post-Approval Requirements for the EP, DPP, and DOCD
280(b) | In an emergency, request departure from your approved EP, DPP, or DOCD | Burden included under 1010-0114. |  | 0
281(a) | Submit various BSEE applications for approval and submit permits | Burdens included under appropriate subpart or form (1014-0003; 1014-0011; 1014-0016; 1014-0018). |  | 0
282 | Retain monitoring data/information; upon request, make available to BOEM | 4 | 150 records | 600
| Prepare and submit monitoring plan for approval | 2 | 6 plans | 12
282(b) | Prepare and submit monitoring reports and data (including BOEM Form 0141 used in GOMR) | 3 | 12 reports | 36
284(a) | Submit updated info on activities conducted under approved EP/DPP/DOCD | 4 | 56 updates | 224
Subtotal |  |  | 224 responses | 872
Submit CIDs
296(a); 297 | Submit CID and required/supporting information; submit CID for supplemental DOCD or DPP | 100 | 17 documents | 1,700
|  |  | $32,372 × 17 = $550,324
296(b); 297 | Submit a revised CID for approval | 50 | 8 revisions | 400
Subtotal |  |  | 25 responses | 2,100
|  |  | $550,324 non-hour costs
Seismic Survey Mitigation Measures and Protected Species Observer Requirements
211 thru 228; 241 thru 262 | Submit to BOEM observer training requirement materials and information | 1.5 | 2 sets of material | 3
| Training certification and recordkeeping | 1 | 1 new trainee | 1
| During seismic acquisition operations, submit monthly observer reports | 1.5 | 100 reports | 150
| Submit final PSO report upon completion of seismic survey effort | 2 | 25 reports | 50
| Observation Duty (3 observers fulfilling an 8-hour shift each for 365 calendar days × 4 vessels = 35,040 man-hours). This requirement is contracted out; hence the non-hour cost burden | 3 observers × 8 hours × 365 days = 8,760 hours × 4 vessels observing = 35,040 man-hours × $52/hr = $1,822,080.
Subtotal |  |  | 128 responses | 204
|  |  | $1,822,080 non-hour costs
Vessel Strike Avoidance and Injured/Protected Species Reporting
211 thru 228; 241 thru 262 | Notify BOEM within 24 hours (and daily thereafter) if a protected species is observed within an enclosed moon pool for as long as the individual remains within the moon pool | 1 | 5 notices | 5
211 thru 228; 241 thru 262 | Immediately report: | 1 | 5 notices | 5
| • Sightings of any injured or dead protected species
| • Unapproved transits through the Rice's whale area
| • If vessel speeds exceeded 10 knots, minimum separation distances were not maintained, or transits were made during periods of low visibility in the Rice's whale area
| • Entanglement or entrapment of a protected species
| • Interaction, or contact with equipment by a protected species
| • Any observation of a leatherback sea turtle within a moon pool
Subtotal |  |  | 10 responses | 10
General Departure
200 thru 299 | General departure and alternative compliance requests not specifically covered elsewhere in Subpart B regulations | 2 | 25 requests | 50
Subtotal |  |  | 25 responses | 50
Total Burden |  |  | 1,291 responses | 286,144
|  |  | $3,688,524 non-hour costs
* The identification number of NTLs may change when NTLs are reissued periodically to update information.
** Archaeological surveys and reports required under 30 CFR 550, subpart A in 550.194(a) are generally part of the geohazard survey report required under 30 CFR 550, subpart B. On average it takes an archaeologist 35 hours to prepare the archaeological survey and report. This hour burden is included in the overall hour burden estimate for submission of EPs and all required information.

An agency may not conduct or sponsor, and a person is not required to respond to, a collection of information unless it displays a valid OMB control number.

The authority for this action is the Paperwork Reduction Act of 1995 (44 U.S.C. 3501 et seq.).

Karen Thundiyil,
Chief, Office of Regulations, Bureau of Ocean Energy Management.

[FR Doc. 2023-04402 Filed 3-2-23; 8:45 am]

BILLING CODE 4340-98-P